DEPARTMENT OF TRANSPORTATION

Federal Aviation Administration

Notice of Intent To Rule on Application (03-03-C-00-HLN) To Impose and Use the Revenue From a Passenger Facility Charge (PFC) at Helena Regional Airport, Submitted by the Helena Regional Airport Authority, Helena Regional Airport, Helena, MT

AGENCY: Federal Aviation Administration (FAA), DOT.

ACTION: Notice of intent to rule on application.

SUMMARY: The FAA proposes to rule and invites public comment on the application to impose and use PFC revenue at Helena Regional Airport under the provisions of 49 U.S.C. 40117 and Part 158 of the Federal Aviation Regulations (14 CFR 158).

DATES: Comments must be received on or before June 23, 2003.

ADDRESSES: Comments on this application may be mailed or delivered in triplicate to the FAA at the following address: David S. Stelling, Manager; Helena Airports District Office, HLN-ADO; Federal Aviation Administration; 2725 Skyway Drive, Suite 2, Helena, MT 59602.

In addition, one copy of any comments submitted to the FAA must be mailed or delivered to Ronald S. Mercer, Airport Director, at the following address: 2850 Skyway Drive, Helena, MT 59602.

Air Carriers and foreign air carriers may submit copies of written comments previously provided at Helena Regional Airport, under section 158.23 of part 158.

FOR FURTHER INFORMATION CONTACT: David S. Stelling, 406-449-5271, Airports District Office, 2725 Skyway Drive, Suite 2, Helena, MT 59602. The application may be reviewed in person at this same location.

SUPPLEMENTARY INFORMATION: The FAA proposes to rule and invites public comment on the application (03-03-C-00-HLN) to impose and use PFC revenue at Helena Regional Airport, under the provisions of 49 U.S.C. 40117 and part 158 of the Federal Aviation Regulations (14 CFR part 158).

On May 13, 2003, the FAA determined that the application to impose and use the revenue from a PFC, submitted by Helena Regional Airport, Helena, Montana, was substantially complete within the requirements of section 158.25 of part 158. The FAA will approve or disapprove the application, in whole or in part, no later than August 22, 2003. The following is a brief overview of the application.

Level of the proposed PFC: $4.50.

Proposed charge-effective date: October 1, 2003.

Proposed charge-expiration date: June 1, 2010.

Total requested for use approval: $2,350,897.

Brief description of proposed projects: Disabled Passenger Access Lift Acquisition; Southside Taxilane Construction—Phase I; Southside Taxilane Construction—Phase II; Loop Road and Parking Lot Improvements; Runway 9 perimeter Access Road; Terminal Building Expansion and Remodel; Snow Removal Equipment Acquisition; and Aircraft Rescue and Fire Fighting Equipment Acquisition.

Class or classes of air carriers that the public agency has requested not be required to collect PFC's: On-demand, Air Taxi/Commercial Operators (ATCO).

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Helena Regional Airport.

Issued in Renton, Washington on May 13, 2003.
David A. Field,
Manager, Planning, Programming and Capacity Branch, Northwest Mountain Region.

[FR Doc. 03-12820 Filed 5-21-03; 8:45 am]

BILLING CODE 4910-13-M